DEPARTMENT OF THE INTERIOR

Bureau of Land Management

[LLWO3200000-L19900000.PP0000]

Renewal of Approved Information Collection; Control Number 1004-0025

AGENCY: Bureau of Land Management, Interior.

ACTION: 60-day notice and request for comments.

SUMMARY: The Bureau of Land Management (BLM) invites public comments on its plans to seek renewal of its authorization under the Paperwork Reduction Act regarding applications for fee title to Federal lands embraced in hardrock mineral claims. The Office of Management and Budget (OMB) has assigned control number 1004-0025 to this information collection.

DATES: Please submit comments on the proposed information collection by December 7, 2015.

ADDRESSES: Comments may be submitted by mail, fax, or electronic mail.

Mail: U.S. Department of the Interior, Bureau of Land Management, 1849 C Street NW., Room 2134LM, Attention: Jean Sonneman, Washington, DC 20240.

Fax: To Jean Sonneman at 202-245-0050.

Electronic mail: Jesonnem@blm.gov.

Please indicate “Attn: 1004-0025” regardless of the form of your comments.

FOR FURTHER INFORMATION CONTACT: Sonia Santillan, at 202-912-7123. Persons who use a telecommunication device for the deaf may call the Federal Information Relay Service at 1-800-877-8339, to leave a message for Ms. Santillan.

SUPPLEMENTARY INFORMATION: OMB regulations at 5 CFR part 1320, which implement provisions of the Paperwork Reduction Act, 44 U.S.C. 3501-3521, require that interested members of the public and affected agencies be given an opportunity to comment on information collection and recordkeeping activities (see 5 CFR 1320.8 (d) and 1320.12(a)). This notice identifies an information collection that the BLM plans to submit to OMB for approval. The Paperwork Reduction Act provides that an agency may not conduct or sponsor a collection of information unless it displays a currently valid OMB control number. Until OMB approves a collection of information, you are not obligated to respond.

The BLM will request a 3-year term of approval for this information collection activity. Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany our submission of the information collection requests to OMB.

Before including your address, phone number, email address, or other personal identifying information in your comment, you should be aware that your entire comment—including your personal identifying information—may be made publicly available at any time. While you can ask us in your comment to withhold your personal identifying information from public review, we cannot guarantee that we will be able to do so.

The following information pertains to this request:

Title: Mineral Patent Applications (43 CFR part 3860) and Adverse Claims, Protests and Conflicts (43 CFR part 3870).

OMB Control Number: 1004-0025.

Summary: On its face, the Mining Law (30 U.S.C. 29, 30, and 39) authorizes a holder of an unpatented claim for hardrock minerals to apply for fee title (patent) to the Federal land (as well as minerals) embraced in the claim. Since 1994, a rider on the annual appropriation bill for the Department of the Interior has prevented the BLM from processing mineral patent applications unless the applications were grandfathered under the initial legislation. The most recent rider is at Public Law 113-235, 128 Stat. 2443, at Section 404. While grandfathered applications are rare at present, the approval to collect the information continues to be necessary because of the possibility that the moratorium will be lifted.

Frequency of Collection: Once.

Form: Certificate of Title on Mining Claims (Form 3860-2) and Application for Survey on Mining Claim (Form 3860-5).

Description of Respondents: Owners of unpatented mining claims and mill sites upon the public lands, and of reserved mineral lands of the United States, National Forests, and National Parks.

Estimated Annual Responses: 10 responses.

Estimated Annual Burden Hours: 496 hours.

Jean Sonneman,
Information Collection Clearance Officer, Bureau of Land Management.

[FR Doc. 2015-25545 Filed 10-6-15; 8:45 am]

BILLING CODE 4310-84-P